DEPARTMENT OF THE INTERIOR

Bureau of Ocean Energy Management

[OMB Control Number 1010-0081; Docket ID: BOEM-2017-0016]

Agency Information Collection Activities; Operations in the Outer Continental Shelf for Minerals Other Than Oil, Gas, and Sulphur

AGENCY: Bureau of Ocean Energy Management, Interior.

ACTION: Notice of information collection; request for comment.

SUMMARY: In accordance with the Paperwork Reduction Act of 1995, the Bureau of Ocean Energy Management (BOEM) is proposing to renew an information collection request (ICR).

DATES: Interested persons are invited to submit comments on or before March 30, 2020.

ADDRESSES: Send your comments on this ICR by mail to the BOEM Information Collection Clearance Officer, Anna Atkinson, Bureau of Ocean Energy Management, 45600 Woodland Road, Sterling, Virginia 20166; or by email to anna.atkinson@boem.gov. Please reference OMB Control Number 1010-0081 in the subject line of your comments.

FOR FURTHER INFORMATION CONTACT: To request additional information about this ICR, contact Anna Atkinson by email, or by telephone at 703-787-1025.

SUPPLEMENTARY INFORMATION: In accordance with the Paperwork Reduction Act of 1995, BOEM provides the general public and other Federal agencies with an opportunity to comment on new, proposed, revised, and continuing collections of information. This helps BOEM assess the impact of our information collection requirements and minimize the public's reporting burden. It also helps the public understand our information collection requirements and provide the requested data in the desired format.

BOEM is soliciting comments on the proposed ICR described below. We are especially interested in public comment addressing the following issues: (1) Is the collection necessary to the proper functions of BOEM; (2) what can BOEM do to ensure that this information will be processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in our request to the Office of Management and Budget (OMB) for approval of this ICR. You should be aware that your entire comment—including your address, phone number, email address, or other personally identifiable information—may be made publicly available at any time. In order for BOEM to withhold from disclosure your personally identifiable information, you must identify any information contained in the submittal of your comments that, if released, would constitute a clearly unwarranted invasion of your personal privacy. You must also briefly describe any possible harmful consequences of the disclosure of information, such as embarrassment, injury, or other harm. While you can ask us in your comment to withhold your personally identifiable information from public review, we cannot guarantee that we will be able to do so.

BOEM protects proprietary information in accordance with the Freedom of Information Act (5 U.S.C. 552) and the Department of the Interior's implementing regulations (43 CFR part 2), and under applicable sections of 30 CFR parts 550 and 552 promulgated pursuant to Outer Continental Shelf Lands Act (OCSLA) at 43 U.S.C. 1352(c).

Abstract: The Outer Continental Shelf Lands Act (43 U.S.C. 1334 and 43 U.S.C. 1337(k)(1)) authorizes the Secretary of the Interior to issue regulations to grant to qualified persons who offer the highest cash bonus on a basis of competitive bidding, leases of any mineral other than oil, gas, and sulphur in any area of the Outer Continental Shelf not then under lease for such mineral upon such royalty, rental, and other terms and conditions as the Secretary may prescribe at the time of offering the area for lease.

Regulations at 30 CFR part 582 carry out these statutory requirements by governing mining operations within the OCS for minerals other than oil, gas, and sulphur and establishing a comprehensive regulatory program for such minerals.

There has been no competitive leasing activity in the OCS for minerals other than oil, gas, and sulphur for many years. Accordingly, BOEM has not generally collected information under this Part of its regulations. However, since these are regulatory requirements, the potential exists for information to be collected. Therefore, we are renewing OMB approval for this information collection.

BOEM will use the information required by 30 CFR part 582 to determine if lessees are complying with the regulations for mining minerals other than oil, gas, and sulphur. BOEM will also use the information to ensure that such operations are conducted in a manner that will result in orderly resource recovery, development, and the protection of the human, marine, and coastal environments and for technical and environmental evaluations which provide a basis for BOEM to make informed decisions to approve, disapprove, or require modification of the proposed activities.

We protect proprietary information according to the Freedom of Information Act (5 U.S.C. 552) and the Department's implementing regulations (43 CFR part 2), 30 CFR 582.5 and 582.6, and applicable sections of 30 CFR parts 580 and 581. No items of a sensitive nature are collected.

Title of Collection: 30 CFR 582, Operations in the Outer Continental Shelf for Minerals Other than Oil, Gas, and Sulphur.

OMB Control Number: 1010-0081.

Form Number: None.

Type of Review: Extension of a currently approved collection.

Respondents/Affected Public: As there are no active respondents, we estimated the potential annual number of respondents to be one. Potential respondents are OCS lessees.

Total Estimated Number of Annual Responses: As there are no active respondents, we estimated the potential annual number of respondents to be one.

Total Estimated Number of Annual Burden Hours: 212 hours.

Respondent's Obligation: Mandatory or voluntary.

Frequency of Collection: Monthly; quarterly; on occasion.

Total Estimated Annual Non-hour Burden Cost: We have identified no non-hour paperwork cost burdens for this collection.

Estimated Reporting and Recordkeeping Hour Burden: We expect the burden estimate for the renewal will be 212 hours. The following table details the individual BOEM components and respective hour burden estimates of this ICR. In calculating the burdens, we assumed that respondents perform certain requirements in the normal course of their activities. We consider these to be usual and customary and took that into account in estimating the burden.

Burden Table
Citation 30 CFR 582 | Reporting or recordkeeping requirement | Hour burden | Average number of annual responses | Annual burden hours
Subpart A—General
4; 21(b) | Governors, other Federal/State agencies, lessees, interested parties, and others review and provide comments/recommendations on all plans and environmental information | 10 | 1 | 10
4(b); 12(b)(2); 21; 22; 25; 26; 28 | Submit delineation plan, including environmental information, contingency plan, monitoring program, and various requests for approval referred to throughout; submit modifications and required information | 40 | 1 | 40
4(c); 12(c)(2); 21; 23; 25; 26; 28 | Submit testing plan, including environmental information, contingency plan, monitoring program, and various requests for approval referred to throughout; submit modifications and required information | 40 | 1 | 40
4(d); 12(d)(2); 21; 24; 25; 26; 28 | Submit mining plan, including environmental information, contingency plan, monitoring program, and various requests for approval referred to throughout; submit modifications and required information | 40 | 1 | 40
5 | Request non-disclosure of G&G info; provide consent; demonstrate loss of competitive position | 10 | 1 | 10
6 | Governors of adjacent States request proprietary data, samples, etc., and disclosure agreement with BOEM | 10 | 1 | 10
7 | Governor of affected State initiates negotiations on jurisdictional controversy, etc., and enters agreement with BOEM | 10 | 1 | 10
Subtotal |  |  | 7 | 160
Subpart B—Jurisdiction and Responsibilities of Director
11(c); 20(h); 30 | Apply for right-of-use and easement; submit confirmations, demonstrations, and notifications | 30 | 1 | 30
11(d) | Request consolidation/splitting of two or more OCS mineral leases or portions | 1 | 1 | 1
20(h) | Request approval of operations or departure from operating requirements | Burden included with applicable plans. |  | 0
14 | Submit response copy of form BOEM-1832 indicating date violations (INCs) corrected | 2 | 1 | 2
Subtotal |  |  | 3 | 33
Subpart C—Obligations and Responsibilities of Lessees
20(a), (g); 29(i) | Make available all mineral resource or environmental data and information; submit reports and maintain records, as specified | Burden included with individual reporting requirements below. |  | 0
20(b) thru (e) | Submit designation of payor, operator, or local representative; submit changes, terminations, notifications | 1 | 1 | 1
21(d) | Notify BOEM of preliminary activities | 1 | 1 | 1
29(a) | Submit monthly report of minerals produced; request extension | 1 | 1 | 1
29(b), (c) | Submit quarterly status and final report on exploration and/or testing activities | 5 | 1 | 5
29(d) | Submit results of environmental monitoring activities | 5 | 1 | 5
29(e) | Submit marked and certified maps annually or as required | 1 | 1 | 1
29(f) | Maintain rock, minerals, and core samples for 5 years and make available upon request | 1 | 1 | 1
29(g) | Maintain original data and information and navigation tapes as long as lease is in effect and make available upon request | 1 | 1 | 1
29(h) | Maintain hard mineral records and make available upon request | 1 | 1 | 1
Subtotal |  |  | 9 | 17
Subpart D—Payments
40 | Submit surety, personal bond, or approved alternative | 2 | 1 | 2
Subpart E—Appeals
50; 15 | File an appeal | Burden exempt under 5 CFR 1320.4(a)(2), (c). |  | 0
Total Burden |  |  | 20 | 212

An agency may not conduct or sponsor, and a person is not required to respond to, a collection of information unless it displays a currently valid OMB control number.

The authority for this action is the Paperwork Reduction Act of 1995 (44 U.S.C. 3501 et seq.).

Deanna Meyer-Pietruszka,
Chief, Office of Policy, Regulation, and Analysis.

[FR Doc. 2020-01552 Filed 1-28-20; 8:45 am]

BILLING CODE 4310-MR-P